DEPARTMENT OF HEALTH AND HUMAN SERVICES

Health Resources and Services Administration

National Advisory Council on the National Health Service Corps

AGENCY: Health Resources and Services Administration, HHS.

ACTION: Correction of meeting date.

SUMMARY: The Health Resources and Services Administration published a meeting notice for the National Advisory Council on the National Health Service Corps in the Federal Register of January 15, 2008 (FR Doc. E8-581), on page 2510. The beginning date of the meeting has changed.

Correction

In the Federal Register issue of January 15, 2008, (FR Doc. E8-581), on page 2510 under the category Dates and Times, the new meeting dates are February 29, 2008, 8:30 a.m.-5 p.m. and March 1, 2008, 9 a.m.-5 p.m.

Dated: January 22, 2008.
Alexandra Huttinger,
Acting Director, Division of Policy Review and Coordination.

[FR Doc. E8-1371 Filed 1-25-08; 8:45 am]

BILLING CODE 4165-15-P